DEPARTMENT OF DEFENSE

GENERAL SERVICES ADMINISTRATION

NATIONAL AERONAUTICS AND SPACE ADMINISTRATION

48 CFR Part 25

Foreign Acquisition

CFR Correction

In Title 48 of the Code of Federal Regulations, Chapter 1 (Parts 1 to 51), revised as of October 1, 2007, on page 508, in section 25.1101, in paragraph (b)(2)(iii), remove “$58,550” and add “$64,786” in its place.

[FR Doc. 08-55501 Filed 1-17-08; 8:45 am]

BILLING CODE 1505-01-D